GENERAL ACCOUNTING OFFICE

[Documents No. JFMIP-SR-00-02]

Joint Financial Management Improvement Program (JFMIP)—Federal Financial Management System Requirements (FFMSR)

AGENCY: Joint Financial Management Improvement Program (JFMIP).

ACTION: Notice of document availability.

SUMMARY: The JFMIP is seeking public comment on an exposure draft entitled “Property Management Systems Requirements,” dated April 2000. The draft is the first FFMSR document to address standard requirements for federal agency property management systems. The document is intended to assist agencies when developing new property management systems and when improving or evaluating existing property management systems. It provides the baseline functionality that property management systems must have a support agency missions and comply with laws and regulations. The final issuance of this JFMIP Property Management Systems Requirements document will provide the functional requirements definition necessary for agencies to comply with mandates of the Chief Financial Officers Act and the Federal financial Management Improvement Act.

DATES: Comments are due by May 31, 2000.

ADDRESSES: Copies of the exposure draft have been mailed to agency senior financial officials, together with a cover memo listing the questions on which JFMIP is soliciting feedback. The exposure draft and cover memo are available on the JFMIP website: http://www.financenet.gov/financenet/fed/jfmip/jfmipexp.htm. Comment should be addressed to JFMIP, 1990 K Street, NW, Suite 430, Washington, DC 20006.

FOR FURTHER INFORMATION CONTACT: Dorothy Sugiyama, (202) 219-0536 or via Internet: dorothy.sugiyama@gsa.gov

SUPPLEMENTARY INFORMATION: The Federal Financial Management Improvement Act (FFMIA) of 1996 mandated that agencies implement and maintain systems that comply substantially with Federal Financial management systems requirements, applicable Federal accounting standards, and the U.S. Government Standard General Ledger at the transaction level. The FFMIA statute codified the JFMIP financial systems requirements documents as a key benchmark that agency systems must meet to be substantially in compliance with systems requirements provisions under FFMIA. To support the requirements outlined in the FFMIA, we are updating requirements documents that are obsolete and publishing additional requirements documents.

Comments received will be reviewed and the exposure draft will be revised as necessary. Publication of the final requirements will be mailed to agency senior financial officials and will be available on the JFMIP website.

Karen Cleary Alderman,
Executive Director, Joint Financial Management Improvement Program.

[FR Doc. 00-8332 Filed 4-4-00; 8:45 am]

BILLING CODE 1610-02-M